DEPARTMENT OF COMMERCE

International Trade Administration

Proposed Information Collection; Comment Request; Survey of Participating Companies in the U.S.-European Union and U.S.-Swiss Safe Harbor Frameworks

AGENCY: International Trade Administration.

ACTION: Notice.

SUMMARY: The Department of Commerce, as part of its continuing effort to reduce paperwork and respondent burden, invites the general public and other Federal agencies to take this opportunity to comment on proposed and/or information collections, as required by the Paperwork Reduction Act of 1995.

DATES: Written comments must be submitted on or before April 15, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to David A. Ritchie, U.S. Department of Commerce, Office of Technology and Electronic Commerce, Telephone: 202-482-4936; e-mail: david.ritchie@trade.gov.

SUPPLEMENTARY INFORMATION:

I. Abstract

The Office of Technology and Electronic Commerce in the Manufacturing and Services unit of the International Trade Administration (ITA) administers the U.S.-European Union (EU) and U.S.-Swiss Safe Harbor Frameworks. These Frameworks allow U.S. companies to meet the requirements of the European Union's Data Protection Directive and the Swiss Federal Act on Data Protection, respectively. This is significant because the Frameworks ensure uninterrupted transfers of personal information worth billions of dollars in trade between the United States and the EU and Switzerland.

In line with the President's National Export Initiative, ITA is interested in gathering information from U.S. companies that use the U.S.-EU and U.S.-Swiss Safe Harbor Frameworks to better evaluate the programs and how they support U.S. exports. The information will be obtained via a survey using the following questions:

(1) Does your company's participation in the U.S.-EU or U.S.-Swiss Safe Harbor programs help your company increase U.S. exports and support U.S. jobs? Please explain.

(2) Please specify the approximate amount of exports in United States Dollars (USD) facilitated by your company's participation in the U.S.-EU or U.S.-Swiss Safe Harbor programs (please include any sales or contracts that were won or retained as a result of your participation in the programs).

(3) How much of your annual sales/exports to Europe, Switzerland, or other parts of the world are dependent on self-certification to the U.S.-EU or U.S.-Swiss Safe Harbor programs?

(4) Does your company currently have a contract that is dependent on self-certification to the U.S.-EU or U.S.-Swiss Safe Harbor programs? If so, what is the value of that contract(s)?

(5) What do the U.S.-EU and U.S.-Swiss Safe Harbor programs mean to your company in terms of business opportunities in Europe?

(6) Tell us what you think about the U.S.-EU and U.S.-Swiss Safe Harbor programs?

II. Method of Collection

The information will be collected via an electronic form on the Safe Harbor Web site (http://www.export.gov/safeharbor).

III. Data

OMB Control Number: None.

Form Number(s): None.

Type of Review: Regular submission (new information collection).

Affected Public: Business or other for-profit organizations.

Estimated Number of Respondents: 2,300.

Estimated Time per Response: 20 minutes.

Estimated Total Annual Burden Hours: 767.

Estimated Total Annual Cost to Public: $500.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 8, 2011.
Gwellnar Banks,
Management Analyst, Office of the Chief Information Officer.

[FR Doc. 2011-3173 Filed 2-11-11; 8:45 am]

BILLING CODE 3510-DR-P